FEDERAL MARITIME COMMISSION

Notice of Agreements Filed

The Commission hereby gives notice of the filing of the following agreements under the Shipping Act of 1984. Interested parties may submit comments on the agreements to the Secretary by email at Secretary@fmc.gov, or by mail, Federal Maritime Commission, Washington, DC 20573, within twelve days of the date this notice appears in the Federal Register. Copies of agreements are available through the Commission's website (www.fmc.gov) or by contacting the Office of Agreements at (202)-523-5793 or tradeanalysis@fmc.gov.

Agreement No.: 201267-001.

Agreement Name: CMA CGM/COSCO Shipping Slot Exchange Agreement China-U.S. West Coast.

Parties: CMA CGM S.A. and COSCO Shipping Lines Co., Ltd.

Filing Party: Draughn Arbona; CMA CGM.

Synopsis: The Amendment expands the geographic scope to include the trades between China and Vietnam on the one hand, and the U.S. West Coast on the other hand.

Proposed Effective Date: 6/10/2019.

Location: https://www2.fmc.gov/FMC.Agreements.Web/Public/AgreementHistory/15267.

Agreement No.: 201278-001.

Agreement Name: HLAG/ONE Gulf-Central America Slot Charter Agreement.

Parties: Hapag Lloyd AG and Ocean Network Express Pte.

Filing Party: Wayne Rohde; Cozen O' Connor.

Synopsis: The Amendment revises the amount of space to be chartered. It also changes the minimum duration of the Agreement and the notice required to terminate.

Proposed Effective Date: 6/7/2019.

Location: https://www2.fmc.gov/FMC.Agreements.Web/Public/AgreementHistory/16301.

Agreement No.: 201296.

Agreement Name: CMA CGM/COSCO Shipping Slot Exchange Agreement China-U.S. West Coast and Middle East-Asia.

Parties: CMA CGM S.A. and COSCO Shipping Lines Co., Ltd.

Filing Party: Draughn Arbona; CMA CGM.

Synopsis: The Agreement authorizes the Parties to exchange space in the trade between (1) China and the U.S. West Coast, and (2) China, Singapore, Malaysia, the United Arab Emirates and Saudi Arabia.

Proposed Effective Date: 6/10/2019.

Location: https://www2.fmc.gov/FMC.Agreements.Web/Public/AgreementHistory/21396.

Agreement No.: 201297.

Agreement Name: CMA CGM/COSCO Shipping Slot Exchange Agreement JAX/SEA.

Parties: CMA CGM S.A. and COSCO Shipping Lines Co., Ltd.

Filing Party: Draughn Arbona; CMA CGM.

Synopsis: This Agreement authorizes the Parties to charter slots to each other in the trades between China and Vietnam on the one hand, and the U.S. West Coast on the other hand.

Proposed Effective Date: 6/10/2019.

Location: https://www2.fmc.gov/FMC.Agreements.Web/Public/AgreementHistory/21397.

Agreement No.: 201298.

Agreement Name: CMA CGM/COSCO Shipping China-U.S. West Coast Service Slot Charter Agreement.

Filing Party: Draughn Arbona; CMA CGM.

Synopsis: The Agreement authorizes COSCO to charter space to CMA CGM in the trade between China and the U.S. West Coast.

Proposed Effective Date: 6/10/2019.

Location: https://www2.fmc.gov/FMC.Agreements.Web/Public/AgreementHistory/21398.

Dated: April 30, 2019.
Rachel Dickon,
Secretary.

[FR Doc. 2019-09108 Filed 5-2-19; 8:45 am]

BILLING CODE 6731-AA-P